ENVIRONMENTAL PROTECTION AGENCY

[FRL-7217-9]

Notice of Proposed Prospective Purchaser Agreement Pursuant to the Comprehensive Environmental Response, Compensation and Liability Act of 1980, as Amended by the Superfund Amendments and Reauthorization Act, Utah Transit Authority

AGENCY: Environmental Protection Agency (EPA).

ACTION: Notice; request for public comment.

SUMMARY: Notice is hereby given that a proposed Prospective Purchaser Agreement (“PPA”) was executed by the U.S. Environmental Protection Agency on March 18, 2002, subject to final approval by the U.S. Department of Justice. The proposed PPA would resolve potential claims under sections 106 and 107 of the Comprehensive Environmental Response, Compensation, and Liability Act, 42 U.S.C. 9606 and 9607, against the Utah Transit Authority (“UTA”), a public transit district and a political subdivision of the State of Utah, which is acquiring a railroad corridor and related property from the Union Pacific Railroad in order to construct a public transit “light-rail” system serving the greater Salt Lake area (the “Property”). By entering into the PPA, UTA agrees to provide EPA access to the Property, complete an environmental audit and conduct environmental sampling of the Property, to characterize soil which is excavated to construct the “light-rail” system, and to properly handle or dispose of soils which are found to be contaminated.

For Fifteen (15) days following the date of publication of this document, the Agency will receive written comments relating to the proposed settlement. Comments should be addressed to Richard Sisk (8ENF-L), Attorney, U.S. Environmental Protection Agency, Region 8, Suite 300, 999 18th Street, Denver, Colorado 80202. and should refer to In the Matter of Utah Transit Authority.

Availability: The proposed settlement is available for public inspection at the EPA Library, U.S. Environmental Protection Agency, Region 8, First Floor, 999 18th Street, Denver, Colorado 80202. A copy of the proposed Agreement may be obtained from Richard Sisk (8ENF-L), Attorney, U.S. Environmental Protection Agency, Region 8, Suite 300, 999 18th Street, Denver, Colorado 80202.

FOR FURTHER INFORMATION CONTACT: Richard Sisk (8ENF-L), Attorney, U.S. Environmental Protection Agency, Region 8, 999 18th Street, Denver, Colorado 80202. (303) 312-6638.

It is so agreed:
Dated: May 9, 2002.
Carol Rushin,
Assistant Regional Administrator, Office of Enforcement, Compliance, and Environmental Justice, Region 8.

[FR Doc. 02-13121 Filed 5-23-02; 8:45 am]

BILLING CODE 6560-50-P